DEPARTMENT OF COMMERCE

National Oceanic and Atmospheric Administration

RIN 0648-XE633

Northeast Ocean Plan

AGENCY: National Oceanic and Atmospheric Administration, Department of Commerce; National Park Service, U.S. Fish and Wildlife Service, Bureau of Ocean Energy Management, Department of the Interior; U.S. Army Corps of Engineers, the Joint Staff, Department of Defense; Environmental Protection Agency; Department of Energy; U.S. Coast Guard, Department of Homeland Security; Department of Transportation; and Department of Agriculture.

ACTION: Notice with request for comments.

SUMMARY: The Northeast Regional Planning Body (NE RPB), which is composed of eight Federal agencies and departments, six States, six federally recognized Indian Tribes, and the New England Fishery Management Council, is requesting public comment on its draft Northeast Ocean Plan. The Northeast Ocean Plan, developed pursuant to the National Ocean Policy, was prepared collaboratively by the Regional Planning Body to build upon and improve existing Federal, State, and Tribal decision-making and planning processes in the Northeast Region. The National Oceanic and Atmospheric Administration (NOAA), as lead Federal agency for the Northeast Regional Planning Body, is publishing this notice on behalf of the NE RPB.

DATES: Submit comments on or before July 25, 2016.

ADDRESSES: Submit your comments, identified by one of the following methods:

• On-line at http://neoceanplanning.org/plan.

• Email: comment@neoceanplanning.org.

• Mail: Betsy Nicholson, Federal Co-Lead, Northeast Regional Planning Body, 55 Great Republic Drive, Gloucester, MA 01930.

• NOAA, on behalf of the NE RPB, intends to make available to the public all comments, including names and addresses when provided. The Draft Northeast Ocean Plan may be obtained online at http://neoceanplanning.org/plan.

FOR FURTHER INFORMATION CONTACT: Betsy Nicholson, Federal Co-Lead, Northeast Regional Planning Body, 55 Great Republic Drive, Gloucester, MA 01930.

SUPPLEMENTARY INFORMATION:

I. Background

National Ocean Policy

Executive Order 13547, signed July 19, 2010, Stewardship of the Ocean, Our Coasts, and the Great Lakes (National Ocean Policy), established a national policy to protect, maintain, and restore the health and biodiversity of the ocean, coastal, and Great Lakes ecosystems and resources; enhance the sustainability of the ocean and coastal economies; preserve our maritime heritage; support sustainable uses and access; provide for adaptive management to enhance our understanding of and capacity to respond to climate change and ocean acidification; increase our scientific understanding and awareness of changing environmental conditions, trends, and their causes; and perform duties in accordance with applicable international law, including respect for and preservation of navigational rights and freedoms, which are essential for the global economy, international peace, national security, and foreign policy interests. The National Ocean Policy encourages a comprehensive, adaptive, integrated, ecosystem-based, and transparent ocean planning process based on sound science for analyzing current and anticipated uses of ocean and coastal areas. The National Ocean Policy also provides for the voluntary development of regional marine plans by intergovernmental regional planning bodies that build upon and improve existing Federal, State, and Tribal decision-making and planning processes. These regional plans, developed by, for, and in the regions, will enable a more integrated, comprehensive, ecosystem-based, flexible, and proactive approach to planning and managing sustainable multiple uses across sectors and improve the conservation of the ocean, our coasts, and the Great Lakes.

Northeast Regional Planning Body

The NE RPB includes six States (Connecticut, Rhode Island, Massachusetts, New Hampshire, Maine, and Vermont); six federally recognized Indian Tribes (Aroostook Band of Micmacs, Houlton Band of Maliseet Indians, Mashpee Wampanoag Tribal Council, Mohegan Indian Tribe of Connecticut, Narragansett Indian Tribe of Rhode Island, and Wampanoag Tribe of Gay Head (Aquinnah)); eight Federal agencies and departments (U.S. Department of Agriculture, U.S. Department of Commerce, U.S. Department of Defense, U.S. Department of Energy, U.S. Department of Homeland Security, U.S. Department of the Interior, U.S. Department of Transportation, and the U.S. Environmental Protection Agency) and their component agencies (the National Oceanic Atmospheric and Administration, the Maritime Administration, the National Park Service, the U.S. Fish and Wildlife Service, the Bureau of Ocean Energy Management, the U.S. Coast Guard, the Joint Staff, and the U.S. Army Corps of Engineers); and the New England Fishery Management Council. The NE RPB is not a regulatory body and has no independent legal authority to regulate or direct Federal, State, or Tribal entities, nor does the draft Northeast Ocean Plan (NE Ocean Plan or the Plan), described below, augment or subtract from any entity's existing statutory or other authorities.

Development of the Draft Northeast Ocean Plan

The NE RPB met for the first time in November 2012.

The NE RPB directed the formal processes and developed the draft NE Ocean Plan over the course of 3-1/2 years. The NE RPB process leading to the draft NE Ocean Plan included a total of seven multi-day public meetings between November 2012 and November 2015. Between NE RPB meetings, there was ongoing outreach to obtain public feedback, identify and discuss issues, review data and procure scientific input. For example, members of the NE RPB met with expert work groups, stakeholder groups, environmental groups, and marine industries, including commercial fishing and shipping groups.

The draft NE Ocean Plan is based on science and informed by stakeholder data and input. Throughout the planning process, stakeholders were involved in developing data products for human activities (shipping, fishing, recreation, energy, and aquaculture, for example) and marine life and habitat (through review of the methods, analyses, and draft products for spatial data characterizing species and their habitat) and were encouraged to review spatial data on the Northeast Ocean Data Portal (the Portal). In collaboration with the Northeast Ocean Data Portal Working Group, the NE RPB developed the Portal as an on-line source that incorporates maps and data characterizing ocean resources and mapping human activities. Since June 2013, the Portal has averaged more than 5,000 visits from 2,400 unique visitors per month. The Portal is available on-line at www.northeastoceandata.org.

II. The Draft Northeast Ocean Plan

The draft NE Ocean Plan, developed using the best available science and knowledge, provides an integrated, comprehensive, ecosystem-based, flexible, and proactive approach to planning and managing uses of the northeast marine environment. The Plan is a forward-looking document intended to strengthen interagency coordination, planning, and policy implementation, and to enhance public participation. The Plan has three main goals: (1) Healthy ocean and coastal ecosystems; (2) effective decision-making; and (3) compatibility among past, current, and future ocean uses. The Plan promotes the use of data from the Portal to inform agency actions, enhance stakeholder input and involvement, locate potential areas of conflict, and identify additional information and science needs. The Plan also describes best practices for inter-agency coordination as well as coordination among Federal agencies, Tribes, States, and stakeholders. The Plan enhances the tools and information available for Federal agency actions and planning, clarifying alternatives and opportunities within the context of Tribal and State agency actions, and by increasing coordination across these governments.

The draft NE Ocean Plan does not augment or subtract from any entity's existing statutory or other authorities. The Plan provides a strategy to monitor and analyze trends in ecosystem health, and undertake efforts to communicate progress towards achieving the three main goals. The Plan is a foundation, not a finished structure, and it will continue to evolve as new trends, information, and needs emerge.

III. Implementation of the NE Ocean Plan

Executive Order 13547, which adopts the Final Recommendations of the Interagency Ocean Policy Task Force (Final Recommendations), establishes a process for the National Ocean Council (NOC or Council) to review and certify each regional marine plan to ensure it is consistent with the National Ocean Policy and includes the essential elements described in the Final Recommendations.

Consistent with Executive Order 13547, each NOC member will, as described in the Final Recommendations, and to the fullest extent consistent with applicable law, comply with those regional plans certified by the NOC. The NOC has issued guidance to the NOC member agencies in the form of the Marine Planning Handbook (Handbook). The Handbook calls for the NOC member agencies to concur that regional marine plans submitted by the regional planning bodies are consistent with the substantive and procedural standards set forth in the Final Recommendations. The NOC concurrence operates as the certification described in Executive Order 13547. By concurring that the NE Ocean Plan was developed in accordance with the substantive and procedural standards in the Final Recommendations, the NOC certifies that Federal members of the NE RPB will use the NE Ocean Plan to guide and inform their actions consistent with their existing statutory and regulatory authorities.

The Federal members of the NE RPB administer a wide range of statutes and programs affecting the marine environment in the Northeast. These Federal departments and agencies carry out actions under Federal laws involving a wide range of regulatory responsibilities and non-regulatory missions and management activities throughout the Nation's waterways and the ocean. These activities include managing and developing marine transportation systems, national security and homeland defense activities, regulating ocean discharges, siting energy facilities, permitting sand removal and beach re-nourishment, managing national parks, national wildlife refuges, and national marine sanctuaries, regulating commercial and recreational fishing, and managing activities affecting threatened and endangered species and migratory birds.

The specific manner and mechanism a Federal agency uses to implement the final NE Ocean Plan will depend upon that agency's mission, authorities, and activities in the marine environment. The Federal members of the NE RPB will publicly describe the administrative mechanisms they will use to implement the NE Ocean Plan when the NE RPB submits the Plan to the NOC for review and concurrence.

If the NOC concurs (i.e., certifies) that the NE Ocean Plan is consistent with Executive Order 13547, the Final Recommendations, and the NOC Handbook, each Federal NE RPB member will incorporate the final NE Ocean Plan into their planning processes and internal agency documents, and use the NE Ocean Plan to guide and inform their decisions and actions, consistent with applicable law. Federal NE RPB members with regulatory responsibilities will incorporate the final NE Ocean Plan into their pre-planning, planning, and permitting to guide and inform Federal agency internal and external permitting decisions, environmental compliance, resource management plans, and other actions taken pursuant to existing statutory and regulatory authorities. These agencies will ensure their scientists, managers, decision-makers, and analysts align their actions with the NE Ocean Plan to the fullest extent possible under existing statutory and regulatory authorities. The NE Ocean Plan does not create new authorities, regulations, or Federal agency missions. All Federal activities will continue to be managed under existing statutory and regulatory authorities.

The RPB member State and Tribal governments and New England Fishery Management Council are in the process of describing how they can use the NE Ocean Plan to guide and inform their activities and decisions.

IV. Conclusion

Through Executive Order 13547, Stewardship of the Ocean, Our Coasts, and the Great Lakes, President Obama established a National Ocean Policy to ensure the protection, maintenance, and restoration of the health of ocean, coastal, and Great Lakes ecosystems and resources; enhance the sustainability of ocean and coastal economies; preserve our maritime heritage; support sustainable uses and access; provide for adaptive management to enhance our understanding of and capacity to respond to climate change and ocean acidification; and coordinate with our national security and foreign policy interests.

The NE RPB anticipates the NE Ocean Plan will increase the sharing of information and data across resource managers, stakeholders and the public; enhance decision-making through collaboration and coordination within NOAA and among Federal, State and Tribal governments; and provide for an improved information and data system that characterizes human activities and natural resources in Northeast waters from the coast to 200 nautical miles offshore. This informational overlay, along with the best practices for improved coordination, will improve the context for decisions affecting the resources and coastal and ocean waters of the Northeast region.

Authority: Executive Order 13547, “Stewardship of the Ocean, Our Coasts and the Great Lakes” (July 19, 2010).

Cathryn D. Sullivan,
Administrator, National Oceanic and Atmospheric Administration.

[FR Doc. 2016-12196 Filed 5-24-16; 8:45 am]

BILLING CODE P